DEPARTMENT OF HEALTH AND HUMAN SERVICES

Administration for Children and Families

Proposed Information Collection Activity; Comment Request

Proposed Projects:

Title: Data Collection Plan for the Customer Satisfaction Evaluation of Child Welfare Information Gateway.

OMB No.: 0970-0303.

Description: The National Clearinghouse on Child Abuse and Neglect Information (NCCAN) and the National Adoption Information Clearinghouse (NAIC) received OMB approval to collect data for a customer satisfaction evaluation under OMB control number 0970-0303. On June 20, 2006, NCCAN and NAIC were consolidated into Child Welfare Information Gateway (CWIG). In response to this consolidation, the proposed information collection activities include revisions to the Customer Satisfaction Evaluation approved under OMB control number 0970-0303.

CWIG is a service of the Children's Bureau, a component within the Administration for Children and Families, and CWIG is dedicated to the mission of connecting professionals and concerned citizens to information on programs, research, legislation, and statistics regarding the safety, permanency, and well-being of children and families. CWIG's main functions are identifying information needs, locating and acquiring information, creating information, organizing and storing information, disseminating information, and facilitating information exchange among professionals and concerned citizens. A number of vehicles are employed to accomplish these activities, including, but not limited to, Web site hosting, discussions with customers, and dissemination of publications (both print and electronic).

The Customer Satisfaction Evaluation was initiated in response to Executive Order 12862 issued on September 11, 1993. The order calls for putting customers first and striving for a customer-driven government that matches or exceeds the best service available in the private sector. To that end, CWIG's evaluation is designed to better understand the kind and quality of services customers want, as well as customers' level of satisfaction with existing services. The proposed data collection activities for the evaluation include customer satisfaction surveys, customer comment cards, selected publication surveys, and focus groups.

Respondents: Child Welfare Information Gateway customers.

Annual Burden Estimates
Instrument | Number of respondents | Number of responses per survey respondent | Average burden hours per survey response | Total burden hours
Customer Satisfaction Survey—Web site Delivery | 1,545 | 16 | .0048 | 118.7
Customer Satisfaction Survey—E-mail Delivery | 29 | 14 | .0048 | 1.9
Customer Satisfaction Survey—Print Delivery | 31 | 14 | .0048 | 2.1
Customer Satisfaction Survey—Phone Delivery | 171 | 14 | .0063 | 15.1
Comment Card | 264 | 3 | .0048 | 3.8
Selected Publications Survey | 85 | 11 | .0048 | 4.5
Focus Group Guide | 28 | 16 | .0625 | 28

Estimated total annual burden hours: 174.1.

In compliance with the requirements of Section 3506(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, CW, Washington, DC 20447, Attn: ACF Reports Clearance Officer. E-mail address: infocollection@ acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collection; and (d) ways to minimize the burden of the collection of information on respondents, including through the use of automated collection techniques or other forms of information technology. Consideration will be given to comments and suggestions submitted within 60 days of this publication.

Dated: November 6, 2007.
Robert Sargis,
Reports Clearance Officer.

[FR Doc. 07-5610 Filed 11-9-07; 8:45 am]

BILLING CODE 4184-01-M